DEPARTMENT OF LABOR

Occupational Safety and Health Administration

[Docket No. NRTL2-98]

NSF International; Application for Expansion of Recognition

AGENCY: Occupational Safety and Health Administration (OSHA), Labor.

ACTION: Notice.

SUMMARY: This notice announces the application of NSF International for expansion of its recognition to use additional test standards, and presents the Agency's preliminary finding to grant this request for expansion. This preliminary finding does not constitute an interim or temporary approval of this application.

DATES: You must submit information or comments, or any request for extension of the time to comment, by the following dates:

• Hard copy: postmarked or sent by June 2, 2006.

• Electronic transmission or facsimile: sent by June 2, 2006.

ADDRESSES: You may submit information or comments to this notice—identified by docket number NRTL2-98—by any of the following methods:

• Federal eRulemaking Portal: http://www.regulations.gov. Follow the instructions for submitting comments.

• OSHA Web site: http://ecomments.osha.gov. Follow the instructions for submitting comments on OSHA's Web page.

• Fax: If your written comments are 10 pages or fewer, you may fax them to the OSHA Docket Office at (202) 693-1648.

• Regular mail, express delivery, hand delivery and courier service: Submit three copies to the OSHA Docket Office, Docket No. NRTL2-98, U.S. Department of Labor, 200 Constitution Avenue, NW., Room N-2625, Washington, DC 20210; telephone (202) 693-2350. (OSHA's TTY number is (877) 889-5627.) OSHA Docket Office hours of operation are 8:15 a.m. to 4:45 p.m., EST.

Instructions: All comments received will be posted without change to http://dockets.osha.gov, including any personal information provided. OSHA cautions you about submitting personal information such as social security numbers and birth dates.

Docket: For access to the docket to read background documents or comments received, go to http://dockets.osha.gov. Contact the OSHA Docket Office for information about materials not available through the OSHA Web page and for assistance in using the Web page to locate docket submissions.

Extension of Comment Period: Submit requests for extensions concerning this notice to the Office of Technical Programs and Coordination Activities, NRTL Program, Occupational Safety and Health Administration, U.S. Department of Labor, Room N-3655, 200 Constitution Avenue, NW., Washington, DC 20210. Or, fax to (202) 693-1644.

FOR FURTHER INFORMATION CONTACT: Office of Technical Programs and Coordination Activities, NRTL Program, Occupational Safety and Health Administration, U.S. Department of Labor, 200 Constitution Avenue, NW., Room N-3653, Washington, DC 20210, or phone (202) 693-2110.

SUPPLEMENTARY INFORMATION:

Notice of Application

The Occupational Safety and Health Administration (OSHA) hereby gives notice that NSF International has applied for expansion of its current recognition as a Nationally Recognized Testing Laboratory (NRTL). NSF's expansion request covers the use of additional test standards. OSHA's current scope of recognition for NSF may be found in the following informational Web page: http://www.osha.gov/dts/otpca/nrtl/nsf.html.

OSHA recognition of an NRTL signifies that the organization has met the legal requirements in section 1910.7 of Title 29, Code of Federal Regulations (29 CFR 1910.7). Recognition is an acknowledgment that the organization can perform independent safety testing and certification of the specific products covered within its scope of recognition and is not a delegation or grant of government authority. As a result of recognition, employers may use products “properly certified” ¹ by the NRTL to meet OSHA standards that require testing and certification.

¹ Properly certified means, in part, that the product is labeled or marked with the NRTL's “registered” certification mark (i.e., the mark the NRTL uses for its NRTL work) and that the product certification falls within the scope of recognition of the NRTL.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha.gov/dts/otpca/nrtl/index.html.

The most recent notice published by OSHA specifically related to NSF's recognition granted a renewal of its NRTL status, which became effective on August 30, 2005 (70 FR 51371).

The current address of the NSF facility already recognized by OSHA is: NSF International, 789 Dixboro Road, Ann Arbor, MI 48105.

General Background on the Application

NSF has submitted an application, dated May 10, 2005 (see Exhibit 16-1), to expand its recognition to include 19 additional test standards. The NRTL then amended the original application to request two additional test standards (see Exhibit 16-2). The NRTL Program staff has determined that each of these standards is an “appropriate test standard” within the meaning of 29 CFR 1910.7(c). However, one standard was already included in NSF's scope. Therefore, OSHA would approve twenty test standards for the expansion.

NSF seeks recognition for testing and certification of products for demonstration of conformance to the following test standards:

UL 48 | Electric Signs.
UL 65 | Wired Cabinets.
UL 174 | Household Electric Storage-Tank Water Heaters.
UL 250 | Household Refrigerators and Freezers.
UL 412 | Refrigeration Unit Coolers.
UL 430 | Waste Disposers.
UL 499 | Electric Heating Appliances.
UL 778 | Motor-Operated Water Pumps.
UL 858 | Household Electric Ranges.
UL 873 | Temperature-Indicating and -Regulating Equipment.
UL 979 | Water Treatment Appliances.
UL 1026 | Electric Household Cooking and Food Serving Appliances.
UL 1082 | Household Electric Coffee Makers and Brewing-Type Appliances.
UL 1083 | Household Electric Skillets and Frying-Type Appliances.
UL 1261 | Electric Water Heaters for Pools and Tubs.
UL 1598 | Luminaries.
UL 1889 | Commercial Filters for Cooking Oil.
UL 1951 | Electric Plumbing Accessories.
UL 2157 | Electric Clothes Washing Machines and Extractors.
UL 2158 | Electric Clothes Dryers.

The designations and titles of the above test standards were current at the time of the preparation of this notice.

OSHA's recognition of NSF, or any NRTL, for a particular test standard is limited to equipment or materials (i.e., products) for which OSHA standards require third-party testing and certification before use in the workplace. Consequently, if a test standard also covers any product(s) for which OSHA does not require such testing and certification, an NRTL's scope of recognition does not include that product(s).

Many UL test standards also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Preliminary Finding on the Application

NSF has submitted an acceptable request for expansion of its recognition as an NRTL. In connection with this request, OSHA did not perform an on-site review of NSF's NRTL testing facilities. However, NRTL Program assessment staff reviewed information pertinent to the request and recommended that NSF's recognition be expanded to include the twenty additional test standards listed above (see Exhibit 16-3). Our review of the application file, the assessor's recommendation, and other pertinent documents indicate that NSF can meet the requirements, as prescribed by 29 CFR 1910.7, for the expansion for the twenty additional test standards listed above. This preliminary finding does not constitute an interim or temporary approval of the application.

OSHA welcomes public comments, in sufficient detail, as to whether NSF has met the requirements of 29 CFR 1910.7 for expansion of its recognition as a Nationally Recognized Testing Laboratory. Your comments should consist of pertinent written documents and exhibits. Should you need more time to comment, you must request it in writing, including reasons for the request. OSHA must receive your written request for extension at the address provided above no later than the last date for comments. OSHA will limit any extension to 30 days, unless the requester justifies a longer period. We may deny a request for extension if it is not adequately justified. You may obtain or review copies of NSF's requests, the on-site review report, other pertinent documents, and all submitted comments, as received, by contacting the Docket Office, Room N-2625, Occupational Safety and Health Administration, U.S. Department of Labor, at the above address. Docket No. NRTL2-98 contains all materials in the record concerning NSF's application.

The NRTL Program staff will review all timely comments and, after resolution of issues raised by these comments, will recommend whether to grant NSF's expansion request. The Assistant Secretary will make the final decision on granting the expansion and, in making this decision, may undertake other proceedings that are prescribed in Appendix A to 29 CFR 1910.7. OSHA will publish a public notice of this final decision in the Federal Register.

Signed at Washington, DC this 29th day of March, 2006.
Jonathan L. Snare,
Acting Assistant Secretary.

[FR Doc. E6-7519 Filed 5-17-06; 8:45 am]

BILLING CODE 4510-26-P